DEPARTMENT OF ENERGY

Environmental Management Site-Specific Advisory Board Chairs

AGENCY: Department of Energy.

ACTION: Notice of Open Meeting.

SUMMARY: This notice announces a meeting of the Environmental Management Site-Specific Advisory Board (EM SSAB) Chairs. The Federal Advisory Committee Act (Pub. L. No. 92-463, 86 Stat. 770) requires that public notice of this meeting be announced in the Federal Register.

DATES: Tuesday, September 16, 2008, 8:30 a.m.-5 p.m.; Wednesday, September 17, 2008, 8:30 a.m.-5 p.m.

ADDRESSES: Key Bridge Marriott, 1401 Lee Highway, Arlington, Virginia, Phone: (703) 524-6400, Fax: (703) 524-8964.

FOR FURTHER INFORMATION CONTACT: E. Douglas Frost, Designated Federal Officer, U.S. Department of Energy, 1000 Independence Avenue, SW., Washington, DC 20585; Phone: (202) 586-5619.

SUPPLEMENTARY INFORMATION: Purpose of the Board: The purpose of the Board is to make recommendations to DOE in the areas of environmental restoration, waste management, and related activities.

Tentative Agenda Topics

Tuesday, September 16, 2008

○ Engineering and Technology Panel and Roundtable Discussion

○ Communications and External Affairs Presentation and Roundtable Discussion

○ Waste and Materials Disposition Panel and Roundtable Discussion

Wednesday, September 17, 2008

○ EM Update Presentation and Roundtable Discussion

○ Round Robin: Top Three Site-Specific Issues and EM SSAB Accomplishments

○ Strategic Planning and Transition Panel and Roundtable Discussion

○ EM SSAB Roundtable Discussion

• Public Outreach and Recruitment Strategies

• Annual Reports and Member Surveys

• Product Development

Public Participation: The meeting is open to the public. Written statements may be filed either before or after the meeting with the Designated Federal Officer, E. Douglas Frost, at the address or telephone listed above. Individuals who wish to make oral statements pertaining to agenda items should also contact E. Douglas Frost. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling E. Douglas Frost at the address or phone number listed above. Minutes will also be available at the following Web site: http://www.em.doe.gov/stakepages/ssabchairs.aspx.

Issued at Washington, DC on August 19, 2008.
Rachel Samuel,
Deputy Committee Management Officer.

[FR Doc. E8-19632 Filed 8-22-08; 8:45 am]

BILLING CODE 6450-01-P